DEPARTMENT OF TRANSPORTATION

Federal Aviation Administration

Waiver of Aeronautical Land-Use Assurance: Marshall Memorial Municipal Airport (MHL), Marshall, MO

AGENCY: Federal Aviation Administration (FAA), DOT.

ACTION: Notice of Intent of Waiver with respect to land.

SUMMARY: The Federal Aviation Administration (FAA) is considering a proposal from the City of Marshall (sponsor), Marshall, MO, to release a 15.42± acres of land from the federal obligation dedicating it to aeronautical use and to authorize this parcel to be used for revenue-producing, non-aeronautical purposes.

DATES: Comments must be received on or before September 29, 2016.

ADDRESSES: Comments on this application may be mailed or delivered to the FAA at the following address: Lynn D. Martin, Airports Compliance Specialist, Federal Aviation Administration, Airports Division, ACE-610C, 901 Locust Room 364, Kansas City, MO 64106.

In addition, one copy of any comments submitted to the FAA must be mailed or delivered to: Mayor Mark Gooden, City of Marshall Office Building, 214 N. Lafayette Ave., Marshall, MO 65340, (660) 886-2226.

FOR FURTHER INFORMATION CONTACT: Lynn D. Martin, Airports Compliance Specialist, Federal Aviation Administration, Airports Division, ACE-610C, 901 Locust, Room 364, Kansas City, MO 64106, Telephone number (816) 329-2644, Fax number (816) 329-2611, email address: lynn.martin@faa.gov.

SUPPLEMENTARY INFORMATION: The FAA invites public comment on the request to change approximately 15.42± acres of airport property at the Marshall Memorial Municipal Airport (MHL) from aeronautical use to non-aeronautical use for revenue producing. The parcel of land is located along the North line of Fairground Road. This parcel will be used for a solar farm. The land will be leased to MC Power for the solar farm.

No airport landside or airside facilities are presently located on this parcel, nor are airport developments contemplated in the future. Farming is the current use of the surface of the parcel. The parcel will serve as a revenue producing lot with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The Marshall Memorial Municipal Airport (MHL) is proposing the release of one parcel, of 15.42 acres, more or less from aeronautical to non-aeronautical. The release of land is necessary to comply with Federal Aviation Administration Grant Assurances that do not allow federally acquired airport property to be used for non-aviation purposes. The rental of the subject property will result in the land at the Marshall Memorial Municipal Airport (MHL) being changed from aeronautical to nonaeronautical use and release the lands from the conditions of the Airport Improvement Program Grant Agreement Grant Assurances. In accordance with 49 U.S.C. 47107(c)(2)(B)(i) and (iii), the airport will receive fair market rental value for the property. The annual income from rent payments will generate a long-term, revenue-producing stream that will further the Sponsor's obligation under FAA Grant Assurance number 24, to make the Marshall Memorial Municipal Airport as financially self-sufficient as possible.

Following is a legal description of the subject airport property at the Marshall Memorial Municipal Airport (MHL):

A tract of land located in the Southwest Quarter of Section 22 T50N R21W, in Marshall, Saline County, Missouri, and further described as follows:

Commencing at the Southwest Corner of said section 22, thence along the South line of said section, S. 89°09′20″ E. 383.83 feet; Thence N. 00°50′40″ E. 20.00 feet, to a point on the East Right of Way of U.S. Highway 65, and the point of beginning.

From the point of beginning, thence continuing along said Right of Way, on a curve to the right, having a radius of 2,774.79 feet, a distance of 732.57 feet, the chord being N. 17°16′20″ W. 730.45 feet; thence S. 83°49′30″ E. 1,163.93 feet; thence S. 01°54′00″ W. 586.19 feet; to the North line of Fairground Road; thence along said North line N. 89°09′20″ 920.98 feet, to the point of beginning, containing 15.42 acres.

Any person may inspect, by appointment, the request in person at the FAA office listed above FOR FURTHER INFORMATION CONTACT. In addition, any person may, upon appointment and request, inspect the application, notice and other documents determined by the FAA to be related to the application in person at the Marshall Memorial Municipal Airport.

Issued in Kansas City, MO, on August 23, 2016.
Jim A. Johnson,
Manager, Airports Division.

[FR Doc. 2016-20793 Filed 8-29-16; 8:45 am]

BILLING CODE 4910-13-P